DEPARTMENT OF THE INTERIOR

National Park Service

[5017-7152-409]

Draft Environmental Impact Statement for the General Management Plan (DEIS/GMP), Canaveral National Seashore, FL

AGENCY: National Park Service, Interior.

ACTION: Notice of availability of a Draft Environmental Impact Statement for the General Management Plan (DEIS/GMP), Canaveral National Seashore (Seashore).

SUMMARY: Pursuant to 42 U.S.C. 4332(2)(C) of the National Environmental Policy Act of 1969 the NPS announces the availability of a DEIS/GMP for Canaveral National Seashore, Florida.

The document provides a framework for management, use, and development options for the Seashore by the NPS for the next 15 to 20 years. It describes four management alternatives for consideration, including a No-Action Alternative that continues current management policies and the NPS's preferred alternative. The document analyzes the environmental impacts of the alternatives.

DATES: There will be a 60-day comment period beginning with the Environmental Protection Agency's publication of this notice of availability in the Federal Register.

ADDRESSES: Copies of the DEIS/GMP are available by contacting the Park Superintendent at Canaveral National Seashore, 212 S. Washington Avenue, Titusville, Florida 32796-3553; telephone: 321-267-1110. An electronic copy of the DEIS/GMP is available on the Internet at http://parkplanning.nps.gov.

SUPPLEMENTARY INFORMATION: There will be a 60-day comment period beginning with the Environmental Protection Agency's publication of this notice of availability in the Federal Register. If you wish to comment on the DEIS/GMP, you may submit your comments by any one of several methods. You may mail comments to the Superintendent at the address shown above. You may also submit a comment via the Internet at http://parkplanning.nps.gov. Finally, you may present your comments in person at the public meetings to be held during the public review period in and around the Seashore.

Before including your address, phone number, e-mail address, or other personal identifying information in your comment, please be advised that your entire comment—including your personal identifying information—may be made publicly available at any time. While you can ask us in your comment to withhold from public review your personal identifying information, we cannot guarantee that we will be able to do so.

The DEIS/GMP presents three management alternatives for the Seashore in addition to the no-action alternative. The four alternatives are as follows:

Alternative A (No-action Alternative): The continuation of current management practices and trends, as set forth general in the 1982 GMP and 1998 GMP amendment.

Alternative B (The NPS Preferred Alternative): Would provide the highest protection of natural and cultural resources associated with the Seashores barrier island system.

Alternative C: Would provide the highest level of visitor services in the form of increased facilities and access to areas of the park.

Alternative D: Would provide a limited level of facility development and would enhance visitor and educational opportunities through partnerships.

FOR FURTHER INFORMATION CONTACT: The Superintendent, Canaveral National Seashore, at the address and telephone number shown above. An electronic copy of the DEIS/GMP is available on the Internet at http://parkplanning.nps.gov. The authority for publishing this notice is 40 CFR 1506.6.

The responsible official for this DEIS/GMP is the Regional Director, Southeast Region, NPS, 100 Alabama Street SW., 1924 Building, Atlanta, Georgia 30303.

Dated: August 8, 2011.
Gordon Wissinger,
Acting, Regional Director, Southeast Region.

[FR Doc. 2011-21088 Filed 8-17-11; 8:45 am]

BILLING CODE 4310-5X-P